COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: March 3, 2024.

ADDRESSES: Committee for Purchase From People Who Are Blind or Severely Disabled, 355 E Street SW, Suite 325, Washington, DC.

FOR FURTHER INFORMATION CONTACT: For further information or to submit comments contact: Michael R. Jurkowski, Telephone: (703) 785-6404 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

8460-01-113-7575—Envelope Case, Map and Photograph

Contracting Activity: DLA TROOP SUPPORT, PHILADELPHIA, PA

NSN(s)—Product Name(s):

6545-01-525-9821—Mass Casualty Case

6545-01-526-0062—Splint Module

6545-01-526-0423—Mass Casualty First Aid Kit

Designated Source of Supply: Chautauqua County Chapter, NYSARC, Jamestown, NY

Contracting Activity: DLA TROOP SUPPORT, PHILADELPHIA, PA

NSN(s)—Product Name(s):

6135-00-904-6780—Battery, Non-Rechargeable, Button, 1.55V, Silver Oxide, NEDA 1133SO, EA/1

Designated Source of Supply: Eastern Carolina Vocational Center, Inc., Greenville, NC

Contracting Activity: DLA LAND AND MARITIME, COLUMBUS, OH

Service(s)

Service Type: Janitorial/Custodial

Mandatory for: US Army Reserve, PFC Schooley USARC, AMSA 89, 125A Armory Road Galax, VA

Designated Source of Supply: Mount Rogers Community Services Board, Wytheville, VA

Contracting Activity: DEPT OF THE ARMY, W6QK ACC-PICA

Michael R. Jurkowski,
Acting Director, Business Operations.

[FR Doc. 2024-02083 Filed 2-1-24; 8:45 am]

BILLING CODE 6353-01-P